DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Larry Ludwig, Lake Oswego, OR, PRT-030862.

The applicant requests a permit to import the sport-hunted trophy of one male bontebok (Damaliscus pygargus dorcas) culled from a captive herd maintained under the management program of the Republic of South Africa, for the purpose of enhancement of the survival of the species.

Applicant: Juan Ignacio Pasquel, Laredo, TX, PRT-039936.

The applicant requests a permit to import the sport-hunted trophy of one male bontebok (Damaliscus pygargus dorcas) culled from a captive herd maintained under the management program of the Republic of South Africa, for the purpose of enhancement of the survival of the species.

Applicant: Deborah Cunningham, Montgomery, TX, PRT-040860.

The applicant requests a permit to import the sport-hunted trophy of one male bontebok (Damaliscus pygargus dorcas) culled from a captive herd maintained under the management program of the Republic of South Africa, for the purpose of enhancement of the survival of the species.

Applicant: The Houston Zoo, Houston, TX, PRT-040158.

The applicant requests a permit to export one female St. Vincent parrot (Amazona guildingii) to Loro Parque Fundacion, Tenerife, Spain for the purpose of enhancement of the survival of the species through captive propagation.

Applicant: Austin Zoo, Austin, TX, PRT-040094.

The applicant requests a permit to import one male tiger (Panthera tigris) cub, of hybridized sub-species, from Welland and District Humane Society, Welland, Ontario, Canada, for the purpose enhancement of the survival of the species through conservation education.

Applicant: University of California, Davis, Davis, CA, PRT-040181.

The applicant requests a permit to import tissue samples from salvaged, unhatched eggs of tracaja (Podocnemis unifilis) and tartaruga (Podocnemis expansa), from the Reserva Nacional Pacaya Samiria (RNPS), Loreto Province, Peru, for the purpose of scientific research.

Applicant: San Antonio Zoological Gardens, San Antonio, TX, PRT-038711.

The applicant requests a permit to export two live specimens of cotton-topped tamarin (Saguinus oedipus oedipus) to Mogo Zoo, Mogo, Australia, for the purpose of enhancement of the species through captive propagation.

Applicant: Kurt Landig, Fremont, OH, PRT-039273.

The applicant requests a permit to export molted feathers obtained from captive born white-eared pheasant (Crossoptilon crossoptilon) and brown-eared pheasant (Crossoptilon mantchuricum). The feathers will be exported to the University of Nottingham, Division of Genetics, Nottingham, United Kingdom, for the purpose of scientific research.

Applicant: Mitchel Kalmanson, Maitland, FL, PRT-040160.

The applicant requests a permit to export and re-import captive-born tigers (Panthera tigris) and progeny of the animals currently held by the applicant and any animals acquired in the United States by the applicant to/from worldwide locations to enhance the survival of the species through conservation education. This notification covers activities conducted by the applicant over a three year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: World Wildlife Heritage Foundation, Santa Clara, Utah PRT-035690.

Permit Type: Import for public display.

Name and Number of Animals: Polar Bear (Ursus maritimus), 1.

Summary of Activity to be Authorized: The applicant requests a permit to import one mounted polar bear specimen harvested from the Davis Strait population, Canada, for the purpose of public display.

Source of Marine Mammals: Harvested from Davis Strait population in Canada.

Period of Activity: 1 year.

Applicant: National Biological Services, Alaska Biological Science Center, Anchorage, Alaska, PRT-801652.

Permit Type: Take and/or Import for Scientific Research.

Name and Number of Animals: Walrus (Odobenus rosmarus) Variable.

Summary of Activity to be Authorized: The applicant requests renewal of their permit to capture, immobilize, tag, implant transmitters, collect blood, tissue and whisker samples, biopsy and release walrus from the wild to continue scientific research to develop reliable methods for anesthetizing and holding walrus, develop methods for attaching transmitters and testing these devises in determining walrus movements, diving and haulout patterns and collect data on physiological status and life history parameters of walrus. The applicant requests authorization to live capture for tagging or physiological studies a total of up to 250 animals over a five year period. Collect biopsies with biopsies darts delivered with projector a total of up to 300 animals per year over a five year period, tag a total of up to 300 animals per year over a two year period and collect unlimited samples from animals found dead. The applicant also intends to import biological samples collected from walrus outside of the United States.

Source of Marine Mammals: Wild walrus from Alaska.

Period of Activity: Up to 5 years, if issued.

Concurrent with the publication of this notice in the Federal Register, the Division of Management Authority is forwarding copies of the above applications to the Marine Mammal Commission and the Committee of Scientific Advisors for their review.

Applicant: Joseph Cocozzo, Mechanicville, NY, PRT-040809

The applicant request a permit to import a polar bear (Ursus maritimus) sport-hunted from the Lancaster Sound population in Canada for personal use.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: March 3, 2001.
Anna Barry,
Senior Permit Biologist, Branch of Permits, Division of Management Authority.

[FR Doc. 01-9631 Filed 4-17-01; 8:45 am]

BILLING CODE 4310-55-P